DEPARTMENT OF DEFENSE

Office of the Secretary

Defense Science Board

AGENCY: Department of Defense.

ACTION: Notice of Advisory Committee meeting.

SUMMARY: The Defense Science Board 2003 Summer Study will meet in closed session on August 4-15, 2003, at the Beckman Center, Irvine, CA. At this meeting, the Defense Science Board will discuss interim findings and recommendations resulting from two ongoing Task Force activities: DoD Roles and Missions in Homeland Security, and Future Strategic Strike Forces.

The mission of the Defense Science Board is to advise the Secretary of Defense and the Under Secretary of Defense for Acquisition, Technology & Logistics on scientific and technical matters as they affect the perceived needs of the Department of Defense. At this meeting, the Board will develop recommendations regarding: The definition of “Homeland Security” and the specific roles and missions DoD will be responsible for accomplishing; the prioritized goals for these DoD roles and missions in a national security emergency; the DoD strategy and plans for the employment of National Guard and Reserve forces capabilities to participate in Homeland Security and also respond to warfighting demands overseas; the known and many unknown vulnerabilities to DoD force projection and how projection issues and responsibilities will be addressed in the larger context of Homeland Security; and the classes of technologies and systems that DoD should have the lead in developing and fielding which have applications for homeland security as well.

The Board will also review and develop recommendations regarding: The assessed future strategic strike force needs of the Department of Defense; the estimated systems life of the current nuclear strike forces; the future need for nuclear strike forces; a strategy for the evolution of the current nuclear force capability; promising non-nuclear strike systems with such capabilities and consequence that should be coherently planned and directed with strategic nuclear forces; and new concepts and approaches, to include hypersonics, for the application of these strategic nuclear and non-nuclear forces that address the future strategic environment.

In accordance with section 10(d) of the Federal Advisory Committee Act, Pub. L. 92-463, as amended (5 U.S.C. App. II), it has been determined that the meeting concerns matters listed in 5 U.S.C. 552b(c)(1) and that, accordingly, the meeting will be closed to the public.

Dated: June 6, 2003.
Patricia L. Toppings,
Alternate OSD Federal Register Liaison Officer, Department of Defense.

[FR Doc. 03-15039 Filed 6-13-03; 8:45 am]

BILLING CODE 5001-08-M